DEPARTMENT OF STATE

[Delegation of Authority No. 328 ]

Re-Delegation From the Deputy Secretary of State for Management and Resources of the Authorities of the Inspector General and the Assistant Secretary for International Security and Nonproliferation

By virtue of the authority vested in the Secretary of State by the laws of the United States, including 22 U.S.C. 2651a, and delegated to me by Delegation of Authority 245-1, dated February 13, 2009, I hereby delegate to the following officials, to the extent authorized by law, all authorities vested in the specified positions, including all authorities vested in the Secretary of State that may have been or may be delegated or re-delegated to those positions:

• To Principal Deputy Assistant Secretary Vann Van Diepen, the authorities of the Assistant Secretary for International Security and Nonproliferation.

• To Deputy Inspector General Harold W. Geisel, the authorities of the Inspector General.

Any authorities covered by this delegation may also be exercised by the Secretary, the Deputy Secretary, and the Deputy Secretary for Management and Resources. Nothing in this delegation of authority shall be deemed to supersede any existing delegation of authority, which shall remain in full force and effect.

This delegation shall expire upon the appointment and entry upon duty in each specific case of an individual to serve in the respective position.

This memorandum shall be published in the Federal Register.

Dated: November 24, 2009.
Jacob J. Lew,
Deputy Secretary of State for Management and Resources, Department of State.

[FR Doc. E9-29340 Filed 12-8-09; 8:45 am]

BILLING CODE 4710-10-P